DEPARTMENT OF ENERGY

Federal Energy Regulatory Commission

[Docket No. IC06-423-000; FERC Form No. 423]

Commission Information Collection Activities, Proposed Collection; Comment Request; Extension

September 14, 2006.

AGENCY: Federal Energy Regulatory Commission.

ACTION: Notice.

SUMMARY: In compliance with the requirements of section 3506(c) (2) (a) of the Paperwork Reduction Act of 1995 (Pub. L. No. 104-13), the Federal Energy Regulatory Commission (Commission) is soliciting public comment on the specific aspects of the information collection described below.

DATES: Comments on the collection of information are due November 20, 2006.

ADDRESSES: Copies of sample filings of the proposed collection of information can be obtained from the Commission's Web site http://www.ferc.gov/docs-filings/elibrary.asp or from the Federal Energy Regulatory Commission, Attn: Michael Miller, Office of the Executive Director, ED-34, 888 First Street, NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC06-423-000.

Documents filed electronically via the Internet must be prepared in WordPerfect, MS Word, Portable Document Format, or ASCII format. To file the document, access the Commission's Web site at http://www.ferc.gov, click the Documents and Filing tab, then choose eFiling from the drop-down menu.” Follow the instructions provided. First time users will have to establish a user name and password. The Commission will send an automatic acknowledgement to the sender's e-mail address upon receipt of comments.

All comments may be viewed, printed or downloaded remotely via the Internet through the Commission's homepage using the eLibrary link. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC Form No. 423 “Monthly Report of Cost and Quality of Fuels for Electric Plants” (OMB No. 1902-0024) is used by the Commission: (1) To conduct fuel reviews under FPA sections 205 (a) and (e); (2) for use in a broad range of fuel cost and purchase practice issues rising from electric utility rate cases; (3) to detect abnormally high fuel costs in utility fuel purchases indicative of affiliate preference at the cost of the consumer; (4) in conjunction with other data, to identify potential out-of-merit plant dispatches carried out by system operators and (5) in conjunction with bid data, provides an indication of market efficiency by providing one of the key components of electricity generation cost.

Other Federal and State agencies, such as the Energy Information Administration and the Environmental Protection Agency, as well as private interest groups, electric utilities and the public use this timely data: (1) To compare each fuel type by quality determinants, in the study of developments in fuel supply which may affect the reliability of electric service, (2) in environmental improvement programs for the different air quality control regions in the United States and (3) for use in analyses of energy and fuel supply impacts on the cost of electric power.

The Commission implements these filing requirements in the Code of Federal Regulations (CFR) under 18 CFR 141.61.

Action: The Commission is requesting a three-year extension of the current expiration date, with no changes to the existing collection of data.

Burden Statement: Public reporting burden for this collection is estimated as:

Number of respondents annually | Number of responses per respondent | Average burden hours per response | Total annual burden hours
(1) | (2) | (3) | (1) × (2) × (3)
569 | 12 | 1 | 6,828

Estimated cost burden to respondents is $385,129. (6828 hours/2080 hours per year times $117,321 per year average per employee = $385,129). The cost per respondent is $677).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) whether the information proposed for collection is of use to entities other than the Commission, and if so, to whom, and specifically for what purpose/s; (3) what specific adverse effect a decision to not collect this information might have; ( 4) what effect transferring the collection of this information to the Energy Information Administration may have on users of this information; (5) the accuracy of the agency's estimate of the burden of the proposed collection of information, including the validity of the methodology and assumptions used; (6) whether the collection of the information by the Energy Information Administration in lieu of the Commission would potentially affect users of the information and how it would affect those users (7) ways to enhance the quality, utility and clarity of the information to be collected; and (8) ways to minimize the burden of the collection of information on those who are to respond, including the use of appropriate automated, electronic, mechanical, or other technological collection techniques or other forms of information technology e.g. permitting electronic submission of responses.

Magalie R. Salas,
Secretary.

[FR Doc. E6-15641 Filed 9-21-06; 8:45 am]

BILLING CODE 6717-01-P